DEPARTMENT OF ENERGY

Federal Energy Regulatory Commission

[Project No. 13579-001]

FFP Qualified Hydro 14 LLC; Notice of Intent To File License Application, Filing of Pre-Application Document, and Approving Use of the Traditional Licensing Process

a. Type of Filing: Notice of Intent to File License Application and Request to Use the Traditional Licensing Process.

b. Project No.: 13579-001.

c. Dated Filed: April 4, 2011.

d. Submitted by: Free Flow Power Qualified Hydro 14 LLC (Qualified Power 14 LLC), a subsidiary of Free Flow Power Corporation.

e. Name of Project: Saylorville Dam Water Power Project.

f. Location: At the U.S. Army Corps of Engineers' (Corps) Saylorville Dam on the Des Moines River in Polk County, Iowa. The project would occupy 1.5 acres of United States lands administered by Corps' Rock Island District.

g. Filed Pursuant to: 18 CFR 5.3 of the Commission's regulations.

h. Potential Applicant Contact: Ramya Swaminathan, Free Flow Power Corporation, 239 Causeway Street, Suite 300, Boston, MA 02114; (978) 226-1531; or e-mail rswaminathan@free-flow-power.com.

i. FERC Contact: Sergiu Serban at (202) 502-6211; or e-mail at sergiu.serban@ferc.gov.

j. Qualified Power 14 LLC filed its request to use the Traditional Licensing Process on April 4, 2011. Qualified Power 14 LLC provided public notice of its request on March 16, 2011. In a letter issued on June 6, 2011, the Director of the Office of Energy Projects approved Qualified Power 14 LLC's request to use the Traditional Licensing Process.

k. With this notice, we are initiating informal consultation with: (a) The U.S. Fish and Wildlife Service under section 7 of the Endangered Species Act and the joint agency regulations thereunder at 50 CFR part 402; and (b) the Iowa State Historic Preservation Officer, as required by section 106, National Historical Preservation Act, and the implementing regulations of the Advisory Council on Historic Preservation at 36 CFR 800.2.

l. With this notice, we are designating Qualified Power 14 LLC as the Commission's non-federal representative for carrying out informal consultation, pursuant to section 7 of the Endangered Species Act and section 106 of the National Historic Preservation Act.

m. Qualified Power 14 LLC filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

o. Register online at http://www.ferc.gov/docs-filing/esubscription.asp to be notified via e-mail of new filing and issuances related to this or other pending projects. For assistance, contact FERC Online Support.

Dated: June 10, 2011.
Kimberly D. Bose,
Secretary.

[FR Doc. 2011-14971 Filed 6-15-11; 8:45 am]

BILLING CODE 6717-01-P